DEPARTMENT OF ENERGY

Federal Energy Regulatory Commission

[Project No. 485-063]

Georgia Power Company; Notice of Meeting and Environmental Site Review

October 4, 2010.

On October 14, 2010, Commission staff, together with representatives of Georgia Power Company (the applicant), will hold a meeting and an Environmental Site Review for the Bartletts Ferry Project. The purpose of the one-day meeting and site review is to orient Commission staff who are in new roles in the Bartletts Ferry relicensing proceeding to project facilities and the approved study plans.

The meeting for the Bartletts Ferry Project will begin at 9 a.m. EST (8 a.m. Central) at the Bartletts Ferry Clubhouse, 61 Lee Road 335, Salem, AL 36874. The boat tour of Lake Harding will begin at 12:30 p.m. EST (11:30 a.m. Central). All interested individuals, organizations, agencies, and Indian tribes are invited to attend the meeting and/or boat tour. All participants are responsible for their own transportation to the meeting location and throughout the day (except boat tour), as may be necessary. Anyone with questions about the meeting and boat tour, as well as to make the necessary arrangements to get to the Bartletts Ferry Clubhouse and reserve space for the boat tour, should contact Mr. George Martin of Georgia Power Company at (404) 506-1357, or Ms. Courtenay O'Mara of Southern Company Generation at (404) 506-7219.

Kimberly D. Bose,
Secretary.

[FR Doc. 2010-25515 Filed 10-8-10; 8:45 am]

BILLING CODE 6717-01-P